DEPARTMENT OF THE INTERIOR

Fish and Wildlife Service

[FWS-HQ-LE-2013-N170; FF09L00200-FX-LE12200900000]

Information Collection Request Sent to the Office of Management and Budget (OMB) for Approval; Captive Wildlife Safety Act

AGENCY: Fish and Wildlife Service, Interior.

ACTION: Notice; request for comments.

SUMMARY: We (U.S. Fish and Wildlife Service, Service) have sent an Information Collection Request (ICR) to OMB for review and approval. We summarize the ICR below and describe the nature of the collection and the estimated burden and cost. This information collection is scheduled to expire on August 31, 2013. We may not conduct or sponsor and a person is not required to respond to a collection of information unless it displays a currently valid OMB control number. However, under OMB regulations, we may continue to conduct or sponsor this information collection while it is pending at OMB.

DATES: You must submit comments on or before August 26, 2013.

ADDRESSES: Send your comments and suggestions on this information collection to the Desk Officer for the Department of the Interior at OMB—OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail), or hope_grey@fws.gov (email). Please include “1018-0129” in the subject line of your comments.

FOR FURTHER INFORMATION CONTACT: To request additional information about this ICR, contact Hope Grey at hope_grey@fws.gov (email) or 703—358—2482 (telephone). You may review the ICR online at http://www.reginfo.gov. Follow the instructions to review Department of the Interior collections under review by OMB.

SUPPLEMENTARY INFORMATION:

OMB Control Number: 1018-0129.

Title: Captive Wildlife Safety Act, 50 CFR 14.250—14.255.

Service Form Number: None.

Type of Request: Extension of a currently approved collection.

Description of Respondents: Accredited wildlife sanctuaries.

Respondent's Obligation: Required to obtain or retain a benefit.

Frequency of Collection: Ongoing.

Estimated Annual Number of Respondents: 750.

Estimated Total Annual Responses: 750.

Estimated Time Per Response: 1 hour.

Estimated Total Annual Burden Hours: 750.

Abstract: The Captive Wildlife Safety Act (CWSA) amends the Lacey Act by making it illegal to import, export, buy, sell, transport, receive, or acquire, in interstate or foreign commerce, live lions, tigers, leopards, snow leopards, clouded leopards, cheetahs, jaguars, or cougars, or any hybrid combination of any of these species, unless certain exceptions are met. There are several exemptions to the prohibitions of the CWSA, including accredited wildlife sanctuaries.

There is no requirement for wildlife sanctuaries to submit applications to qualify for the accredited wildlife sanctuary exemption. Wildlife sanctuaries themselves will determine if they qualify. To qualify, they must meet all of the following criteria:

• Approval by the United States Internal Revenue Service (IRS) as a corporation that is exempt from taxation under section 501(a) of the Internal Revenue Code of 1986, which is described in sections 501(c)(3) and 170(b)(1)(A)(vi) of that code.

• Do not engage in commercial trade in the prohibited wildlife species, including offspring, parts, and products.

• Do not propagate the prohibited wildlife species.

• Have no direct contact between the public and the prohibited wildlife species.

The basis for this information collection is the recordkeeping requirement that we place on accredited wildlife sanctuaries. We require accredited wildlife sanctuaries to maintain complete and accurate records of any possession, transportation, acquisition, disposition, importation, or exportation of the prohibited wildlife species as defined in the CWSA (50 CFR 14, subpart K). Records must be up to date and include: (1) the names and addresses of persons to or from whom any prohibited wildlife species has been acquired, imported, exported, purchased, sold, or otherwise transferred; and (2) the dates of these transactions. Accredited wildlife sanctuaries must:

• Maintain these records for 5 years.

• Make these records accessible to Service officials for inspection at reasonable hours.

• Copy these records for Service officials, if requested.

Comments: On February 13, 2013, we published in the Federal Register (78 FR 10200) a notice of our intent to request that OMB renew approval for this information collection. In that notice, we solicited comments for 60 days, ending on April 15, 2013. We received the following comments in response to that notice: Comment: The recordkeeping requirement should be expanded to other exempt entities under the CWSA, including Animal and Plant Health Inspection Service (APHIS) licensed facilities and State—licensed wildlife rehabilitators.

Response: The CWSA exempts accredited wildlife sanctuaries, if they meet certain requirements. The recordkeeping requirement enables us to confirm that the sanctuary qualifies for the exemption. The CWSA does not place requirements on the other exempt entities. Therefore, we do not have the authority to establish a recordkeeping requirement on those entities.

Comment: Appropriate records should be made available to the Service on an annual basis.

Response: We believe that the submission of records only on an as needed basis is adequate to substantiate that a particular wildlife sanctuary qualifies as accredited under the CWSA. The submission of records on an annual basis would require an application or other mechanism to receive and evaluate those records. In the development of the regulations to implement the CWSA, we considered options for developing some type of formal accreditation mechanism for wildlife sanctuaries, but concluded that because of a lack of available staff and resources to manage the submission of records on an annual basis, such a step was not practical.

Comment: Records should be made available to the public through an online database or Freedom of Information Act requests.

Response: The Privacy Act has certain requirements pertaining to the release of information that would prohibit us from making these records openly available to the public.

Comment: The Service should develop an electronic recordkeeping system for wildlife sanctuaries that could be accessed and used by other Federal, State or, local agencies to, among other things, reconcile the information obtained under the CWSA with that maintained by APHIS under the Animal Welfare Act. An electronic recordkeeping system for wildlife sanctuaries could alleviate the time required to maintain records.

Response: We considered options for developing some type of formal electronic accreditation mechanism for wildlife sanctuaries that could be accessed by other agencies, but because of a lack of available resources and staff to adequately implement such a mechanism we determined it was not practical.

Comment: Records maintained by an accredited wildlife sanctuary should identify specific prohibited species and include the date of birth, age, and date of death of the specimen, and that “otherwise transferred,” as stated in the requirements, should include the disposition of the specimen remains.

Response: We believe that the requirements, as written, are sufficient to confirm the acquisition or disposition of specimens.

Comment: Maintaining records by an accredited wildlife sanctuary should not be considered a “burden.”

Response: We used the term ”burden” in our Federal Register notice, because that is the term typically used to measure the impact (in time and dollars) of the information collection requirements on respondents.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: July 22, 2013.
Tina A. Campbell,
Chief, Division of Policy and Directives Management, U.S. Fish and Wildlife Service.

[FR Doc. 2013-17955 Filed 7-25-13; 8:45 am]

BILLING CODE 4310-55-P